DEPARTMENT OF AGRICULTURE

Forest Service

Medicine Bow-Routt National Forests and Thunder Basin National Grassland; Colorado and Wyoming; Medicine Bow-Routt National Forests and Thunder Basin National Grassland Invasive Plant Management Environmental Impact Statement

AGENCY: Forest Service, USDA.

ACTION: Notice of intent to prepare an environmental impact statement.

SUMMARY: The Medicine Bow-Routt National Forests and Thunder Basin National Grassland (MBRTB) will prepare an environmental impact statement (EIS) to continue control of noxious weeds and other invasive plants through the integration of manual, mechanical, biological, and ground and aerial herbicide control methods. “Invasive species” are defined as alien species whose introduction does or is likely to cause economic or environmental harm or harm to human health (Federal Executive Order 13112). Effects analysis of treatments of invasive plants, including cheatgrass (Bromus tectorum) and other invasive annual bromes, will be projected over the next 10-15 years.

The agency invites comments and suggestions on the 47scope of the analysis to be included in the draft environmental impact statement (DEIS). In addition, the agency gives notice of this environmental analysis and decision making process so that interested and affected people know how they may participate and contribute to the final decision.

When developing an invasive plant management strategy it is critical to consider all available resources and tools. Integrated pest management (IPM) strategies utilize various invasive plant management options that focus on the most economical and effective control of invasive plants. Anything that weakens the invasive plant, prevents spreading, or prevents seed production can be a valuable tool. Proposed methods to control invasive plants include a combination of ground and aerial application of herbicides, mechanical, biological, and cultural weed treatments.

The MBRTB is currently treating noxious weeds and invasive plants under decisions made in the 1996 Management of Noxious Weeds Environmental Assessment (EA). However, the EA and subsequent National Environmental Policy Act (NEPA) decisions for invasive plant control on the MBRTB need to be updated since they did not include analysis of the effects of new herbicides, new invasive plant populations, or aerial application of herbicides. This analysis will disclose the effects of the proposed treatments, including the application of an adaptive management strategy that would assess progress and alter management when adequate progress in not being achieved or as new methods of treatment are developed.

DATES: Comments concerning the scope of the analysis must be received by January 18, 2011. The draft environmental impact statement is expected May 2011 and the final environmental impact statement is expected April 2012.

ADDRESSES: Send written comments to Forest Supervisor, Medicine Bow-Routt National Forests and Thunder Basin National Grassland, 2468 Jackson Street, Laramie, Wyoming 82070. Comments may also be sent via e-mail to comments-rocky-mountain-medicine-bow-routt@fs.fed.us or via facsimile to 307-745-2398.

FOR FURTHER INFORMATION CONTACT: Direct questions about the proposed action and the EIS to Bob Mountain, Project Coordinator, 2468 Jackson Street, Laramie, Wyoming 82070, phone (307) 745-2411 or e-mail bmountain@fs.fed.us. Comments are not to be sent to this address; they need to be received as directed above.

Individuals who use telecommunication devices for the deaf (TDD) may call the Federal Information Relay Service (FIRS) between 8 a.m. and 8 p.m., Eastern Time, Monday through Friday at 1-800-877-8339.

SUPPLEMENTARY INFORMATION: Invasive plants are threatening or dominating areas of the Medicine Bow-Routt National Forests and Thunder Basin National Grassland (MBRTB) with negative impacts on native plant communities, big game winter ranges, sage-grouse habitat, soil and watershed resources, recreation, domestic livestock forage availability and aesthetic values. A shift from native vegetation to invasive plants alters wildlife habitats, decreases wildlife and livestock forage, reduces species diversity, increases soil erosion due to a decrease in surface cover, and promotes undesirable monocultures. For these reasons it is imperative to aggressively manage invasive plants across the MBRTB.

Purpose and Need for Action: The purpose and need of the project is to prevent and reduce loss of native plant communities associated with the spread of invasive plant species. Specifically, the purposes of this project are to treat invasive plants within the Medicine Bow-Routt National Forests and Thunder Basin National Grassland (MBRTB) and to reduce the impacts from invasive plants on other resources.

These management activities would be administered by the Medicine Bow-Routt National Forests and Thunder Basin National Grassland in Colorado and Wyoming. The EIS would update the 1996 MBRTB Management of Noxious Weeds EA and comply with the three current land and resource management plans:

• Medicine Bow National Forest Revised Land and Resource Management Plan December 2003.

• Routt National Forest Land and Resource Management Plan February 1998.

• Thunder Basin National Grassland Land and Resource Management Plan—Northern Great Plains Management Plans Revision July 2002.

The purpose of the Forest Service proposal is to further movement towards desired conditions outlined in the above plans, by:

• Protecting the natural condition and biodiversity of the MBRTB by preventing or limiting the spread of aggressive, non-native plant species that displace native vegetation.

• Promptly eliminating new invaders (species not previously reported in the area) before they become established.

• Preventing or limiting the spread of established invasive plants into areas containing little or no infestation.

• Protecting sensitive and unique habitats including critical big game winter ranges, sage-grouse core areas and other important habitats.

• Reducing known and potential invasive plant seed sources along roads and trails, within powerline corridors, rights-of-ways, gravel and rock quarries, fuels reduction projects, previously-burned areas and beetle-killed forests.

The forest and grassland plans provide goals, objectives, standards and guidelines, and land allocations of the various activities that occur on the forest/grassland. Access to the project area and condition of private lands will be considered during the alternative development and when analyzing potential cumulative effects, but no activities are being proposed to occur on private lands. It is anticipated, however, that the Forest Service may receive requests from intermingled and adjacent landowners to be a willing and able partner on projects that might be proposed to treat invasive plant populations that are found on multiple land ownerships that include NFS lands.

Proposed Action: The Forest Service, through the application of an adaptive invasive plant treatment strategy, proposes to treat invasive plant species on the Medicine Bow-Routt National Forests and Thunder Basin National Grassland (MBRTB). The proposed action would broaden the current management based on the 1996 MBRTB Management of Noxious Weeds EA for control of noxious weeds to:

• Treat new infestations through adaptive management tools for assessing new treatments and new sites;

• Permit the use of newly developed, more species-specific, EPA registered herbicides;

• Continue the use of integrated treatment methods, including herbicides, within wilderness areas where approved in advance and necessary to maintain native vegetation consistent with wilderness values;

• Broaden control methods to include the use of aerial application of herbicides where effective ground application is not possible; and

• Maintain or improve protection measures for herbicide applications.

Table 1 identifies the invasive plants that are proposed for treatment or potential treatment should they be found, and priority of treatment on National Forest System Lands. The table includes invasive plants known to be present within the MBRTB and those not yet present but considered to be likely invaders in the near future. Briefly, Priority 1 indicates weeds of highest priority for treatment and eradication. Priority 2 indicates weeds that are increasing in numbers, Priority 3 are weeds that are so common and widespread that eradication is not possible while Priority 4 weeds are not currently known to occur. Due to the dynamic nature of invasive species, it is not possible for this list to include all invasive species that may be considered a threat to National Forest System lands. Management of species not listed here, yet determined to be a threat, will be addressed in the adaptive management strategy described below.

Table 1
Common name | Scientific name | Priority | Approximate infested acres
Dalmatian toadflax | Linaria dalmatica | 1 | 1,907
Diffuse knapweed | Centaurea diffusa | 1 | 260
Leafy spurge | Euphorbia esula | 1 | 863
Russian knapweed | Acroptilon repens | 1 | 9
Saltcedar | Tamarix complex | 1 | 280
Spotted knapweed | Centaurea stoebe ssp micranthos | 1 | 266
Squarrose knapweed | Centaurea virgata ssp squarrosa | 1 | 3
Yellow toadflax | Linaria vulgaris | 1 | 8,499
Black henbane | Hyoscyamus niger | 2 | 36
Bull thistle | Cirsium vulgare | 2 | 264
Cheatgrass | Bromus tectorum | 2 | 97,461
Common tansy | Tanacetum vulgare | 2 | 5
Hoary cress | Cardaria draba | 2 | 1,374
Musk thistle | Carduus nutans | 2 | 2,200
Russian olive | Elaeagnus angustifolia | 2 | 350
Scentless chamomile | Tripleurospermum perforatum | 2 | 254
Scotch thistle | Onopordum acanthium | 2 | 21
St. Johnswort | Hypericum perforatum | 2 | 2
Sulphur cinquefoil | Potentilla recta | 2 | 1
Canada thistle | Cirsium arvense | 3 | 44,598
Common burdock | Arctium minus | 3 | 53
Common mullein | Verbascum thapsus | 3 | 199
Curveseed butterwort | Ceratocephala testiculata | 3 | 4
Field bindweed | Convolvulus arvensis | 3 | 66
Houndstongue | Cynoglossum officinale | 3 | 15,034
Ox-eye daisy | Leucanthemum vulgare | 3 | 1,288
Dyers woad | Isatis tinctoria | 4 | 0
Medusahead | Taeniatherum caput-medusae | 4 | 0
Perennial pepperweed | Lepidium latifolium | 4 | 0
Perennial sowthistle | Sonchus arvense | 4 | 0
Plumeless thistle | Carduus acanthoides | 4 | 0
Purple loosestrife | Lythrum salicaria | 4 | 0
Quackgrass | Elymus repens | 4 | 0
Skeletonleaf bursage | Ambrosia tomentosa | 4 | 0

“Infested” acres vary widely, largely due to extreme variations of density of the invasive plants within that acre (from a few plants to a few dozen plants in some areas all the way to nearly solid monoculture stands in others). Currently, approximately 175,300 acres within the MBRTB are infested with invasive plants, which is about 6% of the total acres.

The proposed action would occur over the next 10-15 years and would treat a few thousand acres annually (recent efforts have been 2,000-3,000 acres), using a combination of manual, mechanical, biological, and aerial and ground herbicide applications. Adding the capability for aerial treatments is necessary to safely and effectively apply herbicides, in uniform applications, on the steeper slopes that characterize critical big game winter ranges. It is also needed to cooperate with integrated land ownership partners on the Grasslands that are experiencing extensive infestations of cheatgrass as a result of recent and severe drought (and that are negatively affecting native plant populations, especially those in critical sage-grouse habitat). An estimated average of an additional 1,000-5,000 acres might be treated annually for cheatgrass control in cooperation with intermingled-landownership partners, and involving partnership dollars as well.

Potential treatment areas include crucial big game winter ranges, sage-grouse core areas and other important habitats, fuels reduction projects, previously-burned areas, roads and trails, power lines, rights-of-ways, gravel and rock quarries, and beetle-killed forests where invasive weeds are already beginning to proliferate.

The proposed action would utilize a variety of tools, singularly or in combination, to implement an integrated strategy. Proposed control methods include the following:

• Mechanical methods, such as hand-pulling, mowing or cutting.

• Revegetation, where competitive vegetation is seeded to reduce invasive species, possibly after other treatments.

• Grazing with livestock.

• Biological control through the use of predators, parasites, and pathogens.

• Herbicide control using ground-based application methods.

• Herbicide control using aerial application methods.

• Prescribed fire in conjunction with other treatment methods.

• Education programs to inform people of the effects of invasive plant infestations, methods of spread and preventative management opportunities and practices.

• Prevention by using practices that reduce invasive plant spread, including a weed-free forage program and washing vehicles to remove seeds and plant parts.

The selection of control methods is not a choice of one tool over another, but rather selection of a combination of tools that would be most effective on target species for a particular location. The MBRTB proposes to use a combination of control methods based on site-specific conditions and circumstances, EPA labels, APHIS direction, and resource protection measures to ensure that treatment methods are properly used.

The proposed action contains the concept of adaptive management to deal with infestations that are constantly changing. An adaptive management strategy offers an avenue to describe and evaluate the consequences of changing or new infestations and new treatment options, while still addressing other resource concerns. As new infestations are discovered, and as new treatment methods are approved, personnel can evaluate treating those areas using all available methods. The adaptive management strategy consists of two principle components:

1. To quickly and effectively treat newly discovered infestations, a decision tree based on infestation size, location, site characteristics, and consultation with specialists would be used to select treatment methods.

2. To improve effectiveness and reduce impacts, new technology, biological controls, or herbicides would be evaluated for use.

Possible Alternatives: The Medicine Bow-Routt National Forests and Thunder Basin National Grassland will consider a reasonable range of alternatives, including a no action alternative. Other alternatives may examine various combinations of invasive plant treatment. Based on the issues gathered through scoping, the action alternatives may vary in the amount and location of acres considered for treatment and the number, type, and location of activity.

Responsible Official: The Forest Supervisor, Medicine Bow-Routt National Forests and Thunder Basin National Grassland is the Responsible Official for making the decision concerning this proposal.

Nature of Decision To Be Made: Given the purpose and need, the Responsible Official reviews the proposed action, the other alternatives, and the environmental consequences in order to make the following decisions:

• Whether to expand current efforts to control invasive plants;

• What control methods would be used;

• What herbicides would be used;

• What protection measures and monitoring measures would be required; and

• Whether to include an adaptive management approach to address future spread of invasive weeds.

If authorized, the decision would describe adaptive management options under specific settings and conditions.

The EIS is a project level analysis. The scope of the project is confined to issues and potential environmental consequences relevant to the decision. This analysis does not attempt to re-evaluate or alter decisions made at higher levels. The decision is subject to and would implement direction from higher levels.

National and regional policies and Forest Plan direction require consideration of effects of all projects on invasive plant spread and prescribe protection measures where practical to limit those effects. Reconsideration of other existing project level decisions or programmatically prescribing protection measures or standards for future Forest management activities (such as travel management, timber harvest, and grazing management) are beyond the scope of this document. Cumulative effects of the Project are addressed where appropriate in Chapter 3 combined with effects of other Forest activities.

Even with careful consideration, unforeseen events can occur that will require additional analyses. Unanticipated events can result in new information that could have a bearing on a decision. Forest Service procedures for addressing such new information, documents, and decisions are thoroughly explained in FSH 1909.15, Section 18.

Preliminary Issues: Key issues identified to date include:

• The current and potential impacts of invasive plants on natural resources such as big game winter habitat, native plant communities, wilderness values, watershed function, and threatened, endangered, or sensitive species and their habitats.

• Economics, effectiveness, and potential impacts of various control methods on natural resources.

• Potential effects on non-target native plants and associated values, wildlife and fish populations, and human health from the application of herbicides.

Scoping Process: This notice of intent initiates the scoping process, which guides the development of the environmental impact statement. Public participation will be especially important at several points during the analysis, beginning with the scoping process (40 CFR 1501.7). The Forest Service will be seeking information, comments, and assistance from Federal, State, and local agencies, tribes, and other individuals or organizations who may be interested in or affected by the proposed project. This input will be used in preparation of the draft EIS. Continued scoping and public participation efforts will be used by the interdisciplinary team to identify new issues, determine alternatives in response to the issues, and determine the level of analysis needed to disclose potential biological, physical, economic, and social impacts associated with this project.

The draft EIS is expected to be filed with the Environmental Protection Agency (EPA) and to be available for public review by May 2011. The EPA will publish a notice of availability of the draft EIS in the Federal Register. The comment period on the draft EIS will be 45 days from the date the EPA notice appears in the Federal Register. At that time, copies of the draft EIS will be distributed to interested and affected agencies, organizations, and members of the public for their review and comment. It is important that those interested in this proposal on the Medicine Bow-Routt National Forests and Thunder Basin National Grassland participate at that time.

The final EIS is scheduled for completion by April 2012. In the final EIS, the Forest Service is required to respond to substantive comments received during the comment period for the draft EIS. The Forest Supervisor of the Medicine Bow-Routt National Forests and Thunder Basin National Grassland is the responsible official. The Forest Supervisor will decide which, if any, of the proposed project alternatives will be implemented. The decision and reasons for the decision will be documented in appropriate Records of Decision. Those decisions will be subject to Forest Service appeal regulations (36 CFR part 215).

It is important that reviewers provide their comments at such times and in such manner that they are useful to the agency's preparation of the environmental impact statement. Therefore, comments should be provided prior to the close of the comment period and should clearly articulate the reviewer's concerns and contentions.

Comments received in response to this solicitation, including names and addresses of those who comment, will become part of the public record for this proposed action. Comments submitted anonymously will be accepted and considered, however anonymous comments will not provide the respondent with standing to participate in subsequent administrative review or judicial review.

Dated: November 23, 2010.
Steven R. Currey,
Acting Forest Supervisor.

[FR Doc. 2010-30196 Filed 11-30-10; 8:45 am]

BILLING CODE 3410-11-P